Proclamation 7569 of May 31, 2002

National Fishing and Boating Week, 2002

By the President of the United States of America

A Proclamation

Our Nation's landscape contains thousands of bodies of water that offer endless opportunities for recreational boating and fishing. Every year, millions of Americans, including me, look forward to enjoying these popular pastimes.

In addition to providing opportunities for recreation, fishing and boating play important roles in our Nation's economy. They support thousands of American jobs and generate millions of dollars that go directly back to protecting and conserving resources at the local level. Since 1950, State fish and wildlife agencies have received nearly $4 billion through the Federal Aid in Sport Fish Restoration Act. These funds have helped to purchase over 322,000 acres for boating, fishing and fish production, and research. In addition, funding has been used to help educate the public about fish and their habitats. These measures enhance the quality of life for people of all ages and continue a vital legacy of environmental stewardship.

NOW, THEREFORE, I, GEORGE W. BUSH, President of the United States of America, by virtue of the authority vested in me by the Constitution and laws of the United States, do hereby proclaim June 2 through June 8, 2002, as National Fishing and Boating Week. During this week, I encourage people of the United States to participate in the thousands of local events scheduled in communities throughout the United States, offering hands-on opportunities for families and friends to share in these recreational activities.

IN WITNESS WHEREOF, I have hereunto set my hand this thirty-first day of May, in the year of our Lord two thousand two, and of the Independence of the United States of America the two hundred and twenty-sixth.

B

[FR Doc. 02-14240

Filed 6-4-02; 8:45 am]

Billing code 3195-01-P